DEPARTMENT OF JUSTICE

Notice of Lodging of Consent Decree Under the Comprehensive Environmental Response, Compensation, and Liability Act

Notice is hereby given that on September 17, 2009, an electronic version of a proposed consent decree was lodged in the United States District Court for the Central District of California in Preservation Aviation, Inc. et al. v. United States et al., No. SACV 07-1219 SJO (AJWx). The consent decree settles the United States' claims and counterclaims in connection with a complaint filed by Plaintiffs Preservation Aviation, Inc., Jeffrey Pearson and Ann Pearson against the United States Environmental Protection Agency (“EPA”), among others, under the Federal Tort Claims Act, 28 U.S.C. 1346 (“FTCA”), for destroying vintage aircraft instruments owned by Preservation Aviation and stored at a facility in North Hollywood, California and at a facility at the Chino Airport at 7000 Merrill Avenue, Chino, California (the “Sites”). The United States filed a counterclaim against Preservation Aviation and Mr. Pearson under 107(a) of the Comprehensive Environmental Response, Compensation, and Liability Act, as amended (“CERCLA”), 42 U.S.C. 9607(a), for the costs of responding to a release and a threatened release of hazardous substances at and from the Preservation Aviation facility, including aircraft instruments containing radium-226, a hazardous substance. The counterclaim also sought treble punitive damages and fines pursuant to Section 107(c)(3) of CERCLA, 42 U.S.C. 9607(c)(3), and Section 106(b) of CERCLA, 42 U.S.C. 9606(b), based on the failure of Preservation Aviation, Inc. and Jeffrey Pearson to comply with a Unilateral Administrative Order issued by EPA. In addition, the counterclaim sought civil penalties for an alleged failure to respond to a request for information issued by EPA pursuant to Section 104(e) of CERCLA, 42 U.S.C. 9604(e)(2). The United States has no unreimbursed costs at the Chino Airport Site and did not file a counterclaim relating to the Chino Site.

Pursuant to the proposed consent decree the Plaintiffs and related corporate entities will give the United States a covenant not to sue for the Sites and dismiss their claims with prejudice. In return, the United States is giving a covenant not to sue for past and future response costs for the Sites and the penalty claims and will dismiss its claims with prejudice.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to Preservation Aviation, Inc. et al. v. United States et al., No. SACV 07-1219 SJO (AJWx) and DOJ #90-11-2-08809/1.

The consent decree may be examined at the Office of the United States Attorney for the Central District of California 300 North Los Angeles Street, Room 7516, Los Angeles, California 90012. During the public comment period, the consent decree may also be examined on the following Department of Justice Web site: http://www.usdoj.gov/enrd/Consent_Decrees.html. A copy of the consent decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $7.25 (25 cents per page reproduction cost) payable to the U.S. Treasury.

Maureen Katz,
Assistant Section Chief, Environmental Enforcement Section, Environment and Natural Resources Division.

[FR Doc. E9-22938 Filed 9-22-09; 8:45 am]

BILLING CODE 4410-15-P